DEPARTMENT OF COMMERCE

National Oceanic and Atmospheric Administration

RIN 0648-XE308

Fisheries of the Northeastern United States; Northeast Multispecies Fishery Management Plan; Notice of Intent To Prepare an Environmental Impact Statement; Scoping Process; Request for Comments

AGENCY: National Marine Fisheries Service (NMFS), National Oceanic and Atmospheric Administration (NOAA), Commerce.

ACTION: Notice; intent to prepare an environmental impact statement and initiate scoping process; request for comments.

SUMMARY: The New England Fishery Management Council announces its intention to prepare, in cooperation with NMFS, an environmental impact statement in accordance with the National Environmental Policy Act. An environmental impact statement may be necessary to provide analytical support for Amendment 22 to the Northeast Multispecies Fishery Management Plan, which would set criteria for a limited entry program for the small-mesh multispecies (whiting) fishery. This notice is to alert the interested public of the scoping process and potential development of a draft environmental impact statement and to outline opportunity for public participation in that process.

DATES: Written and electronic scoping comments must be received on or before 5 p.m., local time, January 7, 2016.

ADDRESSES: Written scoping comments on Amendment 22 may be sent by any of the following methods:

• Email to the following address: comments@nefmc.org;

• Mail to Thomas A. Nies, Executive Director, New England Fishery Management Council, 50 Water Street, Mill 2, Newburyport, MA 01950; or

• Fax to (978) 465-3116.

Requests for copies of the Amendment 22 scoping document and other information should be directed to Thomas A. Nies, Executive Director, New England Fishery Management Council, 50 Water Street, Mill 2, Newburyport, MA 01950, telephone (978) 465-0492. The scoping document is accessible electronically via the Internet at http://www.nefmc.org.

FOR FURTHER INFORMATION CONTACT: Thomas A. Nies, Executive Director, New England Fishery Management Council, (978) 465-0492.

SUPPLEMENTARY INFORMATION:

Background

The New England Fishery Management Council, working through its public participatory committee and meeting processes, anticipates the development of an amendment that may be analyzed through an environmental impact statement (EIS), dependent on addressing applicable criteria in the Council on Environmental Quality regulations and guidance for implementing the National Environmental Policy Act (NEPA). Amendment 22 to the Northeast Multispecies Fishery Management Plan (FMP) is anticipated to consider criteria that would restrict access to the directed whiting fishery based on past participation by vessels in the fishery and possibly other factors through the establishment of a limited entry program. Amendment 22 would also determine limits and fishery regulations that would apply to qualifying and non-qualifying vessels.

The small-mesh multispecies fishery is managed through a set of exemptions from the requirements of the “large-mesh” multispecies fishery. The current small-mesh exemptions under the FMP were first established in Amendment 5 in 1994. Amendment 5 prevented fishing with mesh smaller than the established minimum size in Gulf of Maine/Georges Bank Regulated Mesh Areas, unless exempted fisheries could be established that reduce the bycatch of regulated multispecies to less than 5 percent of the total weight of fish on board. Since that time, experimental and exempted fisheries for small-mesh multispecies in this area have evolved through cooperative experimentation, gear research, and gear technologies that significantly reduce bycatch of non-target species, especially regulated multispecies.

A number of amendments and framework adjustments revised management of the small-mesh fishery, including the relationships between retention limits and net mesh size, created and then modified a seasonal raised footrope trawl fishery in Cape Cod Bay, made minor modifications to several related measures, and created a raised footrope trawl whiting fishery in the inshore Gulf of Maine. Using a September 9, 1996, control date, the Council developed and submitted Amendment 12 to establish limited access criteria during 1999. Due to concerns about equity and overfishing, the limited access criteria in this amendment were disapproved (See the final rule (65 FR 6766; March 29, 2000) for Amendment 12 here: http://www.greateratlantic.fisheries.noaa.gov/sfd/multifr/65FR16765.pdf).

In 2006, the Council held new scoping hearings for an second limited entry amendment, which at the time was known as Amendment 15 (http://www.greateratlantic.fisheries.noaa.gov/sfd/multifr/65FR16765.pdf) and began development of limited access alternatives using March 25, 2003, control date and fishery data (dealer and VTR) through 2005. Extensive analyses were completed through May 2007 by Whiting Advisors and the Small Mesh Multispecies Committee to develop and evaluate alternatives. Concerns were raised, and potential solutions generated, to address “historic” whiting fisheries that had lost access in the mid-2000s due to groundfish restrictions and/or changes in availability of small-mesh multispecies. Between the 2006 scoping hearings and May 2007, substantial progress was made to analyze the fishery and develop alternatives, but the Council encountered data, enforcement, and compliance problems that compromised any approach that could be taken. Because these issues could not be resolved in a timely manner, the Council took up higher priority issues in 2008 and work on the amendment was discontinued. Many of the issues that were raised at that time have not been resolved.

Amendment 19 (http://s3.amazonaws.com/nefmc.org/Final_Amendment_19.pdf) was approved and implemented on April 4, 2013 (http://s3.amazonaws.com/nefmc.org/amend19final_rule.pdf), establishing allowable biological catch specifications, annual catch limits, and accountability measures individually for northern and southern stocks of whiting (silver and offshore hakes) and red hake. These limits were set using a benchmark stock assessment conducted in 2010 (http://www.nefsc.noaa.gov/publications/crd/crd1101/).

The most recent action was a Specifications Document for Fishing Years 2015-2017 (http://www.nefmc.org/library/2015-2017-whiting-specifications), taken in response to an operational assessment that updated the stock status and to make a correction to the northern red hake accountability measure. The operational assessment determined that overfishing of northern red hake was occurring in 2013 (http://s3.amazonaws.com/nefmc.org/SAFE-Report-for-Fishing-Year-2013.pdf), a situation that the Council addressed by changing the ABC and reducing northern red hake possession limits. The assessment detected a large 2013 year class, but its size was imprecise and it would not enter the fishery until 2015-2016. Because this large year class could cause excessive discards with the reduced northern red hake possession limits, a new operational red hake assessment was requested and presented to the Council in September 2015. The Council is considering adjusting the red hake specifications based on that update.

Amendment 22

The purpose of Amendment 22 is to implement measures that would prevent unrestrained increases in fishing effort by new entrants to the fishery. The need for the amendment is to reduce the potential for a rapid escalation of the small-mesh multispecies fishery, possibly causing overfishing and having a negative effect on red hake and whiting markets. The outcome of both would have negative effects on fishery participants. The amendment is intended to ensure that catches of the small-mesh multispecies and other non-target species will be at or below specifications, reducing the potential for causing accountability measures to be triggered and resulting closure of the directed fishery.

The Council's Small-Mesh Multispecies Committee and the Council will be identifying the goals and objectives for Amendment 22 following the scoping period and will then develop alternatives to meet the purpose and need of the action. Following input from these Council bodies and the public, the Council will select a range of alternatives to consider limited access criteria as well as limits and fishing restrictions for qualifying and non-qualifying vessels.

Public Comment

All persons affected by or otherwise interested in small-mesh multispecies management are invited to participate in determining the scope and significance of issues to be analyzed by submitting written comments (see ADDRESSES) or by attending one of the four scoping meetings for this amendment. Scoping consists of identifying the range of actions, alternatives, and impacts to be considered. At this time in the process, the Council believes that the alternatives considered in Amendment 22 would consider limited access criteria based on a vessel's history in the fishery and possibly other factors, as well as limits and fishing restrictions that would apply to qualifying and non-qualifying vessels. After the scoping process is completed, the Council will begin development of Amendment 22 and will prepare an EIS to analyze the impacts of the range of alternatives under consideration.

Impacts may be direct, indirect, or cumulative. The Council will hold public hearings to receive comments on the draft amendment and on the analysis of its impacts presented in the Draft EIS. In addition to soliciting comment on this notice, the public will have the opportunity to comment on the measures and alternatives being considered by the Council through public meetings and public comment periods consistent with NEPA, the Magnuson-Stevens Act, and the Administrative Procedure Act. The following scoping meetings have been scheduled. The Council will take and discuss scoping comments on this amendment at the following public meetings:

1. Tuesday, December 1, 2015; 5:30 p.m.; Holiday Inn by the Bay, 88 Spring Street, Portland, ME 04101; (207) 775-2311.

2. Monday, December 7, 2015; 7 p.m.; MA DMF of Marine Fisheries; Annisquam River Marine Fisheries Station; 30 Emerson Ave; Gloucester, MA 01930; (978) 282-0308.

3. Monday, December 14, 2015; 7 p.m.; Fairfield Inn & Suites, 185 MacArthur Drive, New Bedford, MA 02740; (774) 634-2000.

4. Monday, December 21, 2015; 7 p.m.; Montauk Playhouse Community Center Foundation; 240 Edgemere St., Montauk, New York 11954; (631) 668-1124

5. Webinar; Thursday, December 17, 2015; 3-5 p.m.

Register to participate: https://attendee.gotowebinar.com/register/5272201506328155394; Call in info: Toll: +1 (914) 614-3221; Access Code: 539-710-362.

Special Accommodations

The meetings are accessible to people with physical disabilities. Requests for sign language interpretation or other auxiliary aids should be directed to Thomas A. Nies (see ADDRESSES) at least five days prior to this meeting date.

Authority: 16 U.S.C. 1801 et seq.

Dated: November 18, 2015.
Emily H. Menashes,
Acting Director, Office of Sustainable Fisheries, National Marine Fisheries Service.

[FR Doc. 2015-29795 Filed 11-20-15; 8:45 am]

BILLING CODE 3510-22-P